ENVIRONMENTAL PROTECTION AGENCY

[FRL-7912-5]

Public Water Supply Supervision Program; Program Revision for the State of Oregon

AGENCY: Environmental Protection Agency (EPA).

ACTION: Notice of tentative approval.

SUMMARY: Notice is hereby given that the State of Oregon has revised its approved State Public Water Supply Supervision (PWSS) Primacy Program. Oregon has adopted drinking water regulations for Public Notification, Radionuclides, Filter Backwash Recycling, Arsenic, Variances and Exemptions, and Enhanced Surface Water Treatment for systems serving less than 10,000 people. EPA has determined that these revisions are no less stringent than the corresponding federal regulations. Therefore, EPA intends on approving these State program revisions. This approval action does not extend to public water systems (PWSs) in Indian Country, as that term is defined in 18 U.S.C. 1151. By approving these rules, EPA does not intend to affect the rights of Federally recognized Indian tribes in Idaho, nor does it intend to limit existing rights of the State of Oregon.

All interested parties may request a public hearing. A request for a public hearing must be submitted by June 15, 2005 to the Regional Administrator at the address shown below. Frivolous or insubstantial requests for a hearing may be denied by the Regional Administrator. However, if a substantial request for a public hearing is made by June 15, 2005, a public hearing will be held. If no timely and appropriate request for a hearing is received and the Regional Administrator does not elect to hold a hearing on his own motion, this determination shall become final and effective on June 15, 2005. Any request for a public hearing shall include the following information: (1) The name, address, and telephone number of the individual, organization, or other entity requesting a hearing; (2) a brief statement of the requesting person's interest in the Regional Administrator's determination and a brief statement of the information that the requesting person intends to submit at such hearing; (3) the signature of the individual making the request, or if the request is made on behalf of an organization or other entity, the signature of a responsible official of the organization or other entity.

ADDRESSES: All documents relating to this determination are available for inspection between the hours of 9 a.m. and 4 p.m., Monday through Friday, at the following offices: Oregon Department of Human Services, Drinking Water Program, 800 N.E. Oregon Street, Portland, Oregon 97232, and U.S. Environmental Protection Agency, Region 10 Library, 1200 Sixth Avenue, Seattle, Washington 98101.

FOR FURTHER INFORMATION CONTACT: Wendy Marshall, EPA Region 10, Drinking Water Unit, at the Seattle address given above; telephone (206) 553-1890.

Authority: Section 1420 of the Safe Drinking Water Act, as amended (1996), and 40 CFR Part 142 of the National Primary Drinking Water Regulations.

Dated: May 5, 2005.
Julie Hagensen,
Acting Regional Administrator, Region 10.

[FR Doc. 05-9719 Filed 5-13-05; 8:45 am]

BILLING CODE 6560-50-P